DEPARTMENT OF STATE

Office of the Coordinator for Counterterrorism

[Public Notice 3947]

Designations of Terrorists and Terrorist Organizations Pursuant to Executive Order 13224 of September 23, 2001

AGENCY: Office of the Coordinator for Counterterrorism, State.

ACTION: Notice.

SUMMARY: Notice is hereby given of the designation by the Secretary of State of foreign persons whose property and interests in property have been blocked pursuant to Executive Order 13224 of September 23, 2001. These designations comprise 8 individuals and 29 organizations determined to meet the criteria set forth under subsection 1(b) of Executive Order 13224.

DATES: These determinations were made by the Secretary of State on October 12, 2001, October 31, 2001, December 18, 2001, and December 31, 2001, in consultation with the Secretary of the Treasury and Attorney General.

FOR FURTHER INFORMATION CONTACT: Frederick W. Axelgard, Office of the Coordinator for Counterterrorism, Department of State; telephone: (202) 647-9892; fax: (202) 647-0221.

SUPPLEMENTARY INFORMATION:

Background

On September 23, 2001, President Bush issued Executive Order 13224 (the “Order”) imposing economic sanctions on persons (defined as including individuals or entities) who, inter alia, commit, threaten to commit, or support certain acts of terrorism. In an annex to the Order, President Bush identified 12 individuals and 15 entities whose assets are blocked pursuant to the Order (66 FR 49079, September 25, 2001). The property and interests in property of an additional 33 individuals and 6 entities were blocked pursuant to determinations by the Secretary of State and the Secretary of the Treasury (effective October 12, 2001), referenced in a Federal Register Notice published by the Office of Foreign Assets Control, Department of the Treasury (66 FR 54404, October 26, 2001). Further determinations made by the Secretary of the Treasury, in consultation with the Secretary of State and the Attorney General, on November 7, 2001, and December 4, 2001, December 20, 2001, January 9, 2002, February 26, and March 11 are addressed in a separate notice published elsewhere in this issue of the Federal Register.

Pursuant to subsection 1(b) of the Order, the Secretary of State, in consultation with the Secretary of the Treasury and the Attorney General, has determined to date that 8 foreign individuals and 29 foreign organizations have been determined to have committed, or to pose a significant risk of committing, acts of terrorism that threaten the security of U.S. nationals or the national security, foreign policy, or economy of the United States. The Secretary of State's determination that each of these individuals and organizations meets the criteria set forth under subsection 1(b) of the Order subjects each of these individuals and organizations to sanctions. 23 of the organizations determined on October 31, 2001 and December 18, 2001 to meet the criteria set forth under subsection 1(b) of the Order are also subject to sanctions imposed pursuant to their designation as a Foreign Terrorist Organization pursuant to section 219 of the Immigration and Nationality Act, as amended, 8 U.S.C. 1189.

Pursuant to the determination made by the Secretary of State under subsection 1(b) of the Order, all property and interests in property of any listed person that are in the United States, that come within the United States, or that come within the possession or control of United States persons, including their overseas branches, are blocked. All transactions or dealings by U.S. persons or within the United States in property or interests in property of any listed person are prohibited unless licensed by the Department of the Treasury's Office of Foreign Assets Control or exempted by statute.

The determinations of the Secretary of State were effective on October 12, 2001, October 31, 2001, December 18, 2001, and December 31, 2001.

In Section 10 of the Order, the President determined that because of the ability to transfer funds or assets instantaneously, prior notice to persons listed in the Annex to, or determined to be subject to, the Order who might have a constitutional presence in the United States, would render ineffectual the blocking and other measures authorized in the Order. The President therefore determined that for these measures to be effective in addressing the national emergency declared in the Order, no prior notification of a listing or determination pursuant to the Order need be provided to any person who might have a constitutional presence in the United States.

The property and interests of property of the following persons are blocked and may not be transferred, paid, exported, withdrawn or otherwise dealt in except as authorized by regulations, orders, directives, rulings, instructions, licenses or otherwise:

Designations by the Secretary of State on October 12, 2001

ADBELKARIM HUSSEIN MOHAMMED AL-NASSER

AHMAD IBRAHIM AL-MUGHASSIL

ALI SAED BIN ALI EL-HOORIE

IBRAHIM SALIH MOHAMMED AL-YACOUB

ALI ATWA

HASAN IZZ-AL-DIN

IMAD FAYEZ MUGNIYAH

KHALID SHAIKH MOHAMMED

Designations by the Secretary of State on October 31, 2001

ABU NIDAL ORGANIZATION

a.k.a. ANO;

a.k.a. BLACK SEPTEMBER

a.k.a. FATAH REVOLUTIONARY COUNCIL

a.k.a. ARAB REVOLUTIONARY COUNCIL

a.k.a. ARAB REVOLUTIONARY BRIGADES

a.k.a. REVOLUTIONARY ORGANIZATION OF SOCIALIST MUSLIMS

AUM SHINRIKYO

a.k.a. A.I.C. COMPREHENSIVE RESEARCH INSTITUTE

a.k.a. A.I.C. SOGO KENKYUSHO

a.k.a. ALEPH

a.k.a. AUM SUPREME TRUTH

BASQUE FATHERLAND AND LIBERTY

a.k.a. ETA

a.k.a. EUZKADI TA ASKATASUNA

GAMA'A AL-ISLAMIYYA

a.k.a. GI

a.k.a. ISLAMIC GROUP

a.k.a. IG

a.k.a. AL-GAMA'AT

a.k.a. ISLAMIC GAMA'A

a.k.a. EGYPTIAN AL-GAMA'AT AL-ISLAMIYYA

HAMAS

a.k.a. ISLAMIC RESISTANCE MOVEMENT

a.k.a. HARAKAT AL-MUQAWAMA AL-ISLAMIYA

a.k.a. STUDENTS OF AYYASH

a.k.a. STUDENT OF THE ENGINEER

a.k.a. YAHYA AYYASH UNITS

a.k.a. IZZ AL-DIN AL-QASSIM BRIGADES

a.k.a. IZZ AL-DIN AL-QASSIM FORCES

a.k.a. IZZ AL-DIN AL-QASSIM BATTALIONS

a.k.a. IZZ AL-DIN AL QASSAM BRIGADES

a.k.a. IZZ AL-DIN AL QASSAM FORCES

a.k.a. IZZ AL-DIN AL QASSAM BATTALIONS

HIZBALLAH

a.k.a. PARTY OF GOD

a.k.a. ISLAMIC JIHAD

a.k.a. ISLAMIC JIHAD ORGANIZATION

a.k.a. REVOLUTIONARY JUSTICE ORGANIZATION

a.k.a. ORGANIZATION OF THE OPPRESSED ON EARTH

a.k.a. ISLAMIC JIHAD FOR THE LIBERATION OF PALESTINE

a.k.a. ORGANIZATION OF RIGHT AGAINST WRONG

a.k.a. ANSAR ALLAH

a.k.a. FOLLOWERS OF THE PROPHET MUHAMMED

KAHANE CHAI

a.k.a. COMMITTEE FOR THE SAFETY OF THE ROADS

a.k.a. DIKUY BOGDIM

a.k.a. DOV

a.k.a. FOREFRONT OF THE IDEA

a.k.a. JUDEA POLICE

a.k.a. KACH

a.k.a. KAHANE LIVES

a.k.a. KFAR TAPUAH FUND

a.k.a. KOACH

a.k.a. REPRESSION OF TRAITORS

a.k.a. STATE OF JUDEA

a.k.a. SWORD OF DAVID

a.k.a. THE JUDEAN LEGION

a.k.a. THE JUDEAN VOICE

a.k.a. THE QOMEMIYUT MOVEMENT

a.k.a. THE WAY OF THE TORAH

a.k.a. THE YESHIVA OF THE JEWISH IDEA

KURDISTAN WORKERS' PARTY

a.k.a. HALU MESRU SAVUNMA KUVVETI (HSK)

a.k.a. PARTIYA KARKERAN KURDISTAN

a.k.a. PKK

a.k.a. THE PEOPLE'S DEFENSE FORCE

LIBERATION TIGERS OF TAMIL EELAM

a.k.a. LTTE

a.k.a. TAMIL TIGERS

a.k.a. ELLALAN FORCE

MUJAHEDIN-E KHALQ

a.k.a. MUJAHEDIN-E KHALQ ORGANIZATION

a.k.a. MEK

a.k.a. MKO

a.k.a. NLA

a.k.a. ORGANIZATION OF THE PEOPLE'S HOLY WARRIORS OF IRAN

a.k.a. PEOPLE'S MUJAHEDIN ORGANIZATION OF IRAN

a.k.a. PMOI

a.k.a. SAZEMAN-E MUJAHEDIN-E KHALQ-E IRAN

a.k.a. THE NATIONAL LIBERATION ARMY OF IRAN

NATIONAL LIBERATION ARMY

a.k.a. ELN

a.k.a. EJERCITO DE LIBERACION NACIONAL

PALESTINE ISLAMIC JIHAD—SHAQAQI FACTION

a.k.a. ABU GHUNAYM SQUAD OF THE HIZBALLAH BAYT AL-MAQDIS

a.k.a. AL-AWDAH BRIGADES

a.k.a. AL-QUDS BRIGADES

a.k.a. AL-QUDS SQUADS

a.k.a. ISLAMIC JIHAD IN PALESTINE

a.k.a. ISLAMIC JIHAD OF PALESTINE

a.k.a. PALESTINIAN ISLAMIC JIHAD

a.k.a. PIJ

a.k.a. PIJ-SHALLAH FACTION

a.k.a. PIJ-SHAQAQI FACTION

a.k.a. SAYARA AL-QUDS

PALESTINE LIBERATION FRONT—ABU ABBAS FACTION

a.k.a. PALESTINE LIBERATION FRONT

a.k.a. PLF

a.k.a. PLF-ABU ABBAS

POPULAR FRONT FOR THE LIBERATION OF PALESTINE—GENERAL COMMAND

a.k.a. PFLP-GC

REAL IRA

a.k.a. 32 COUNTY SOVEREIGNTY COMMITTEE

a.k.a. 32 COUNTY SOVEREIGNTY MOVEMENT

a.k.a. IRISH REPUBLICAN PRISONERS WELFARE ASSOCIATION

a.k.a. REAL IRISH REPUBLICAN ARMY

a.k.a. REAL OGLAIGH NA HEIREANN

a.k.a. RIRA

REVOLUTIONARY ARMED FORCES OF COLOMBIA

a.k.a. FARC

REVOLUTIONARY NUCLEI

a.k.a. POPULAR REVOLUTIONARY STRUGGLE

a.k.a. EPANASTATIKOS LAIKOS AGONAS

a.k.a. REVOLUTIONARY POPULAR STRUGGLE

a.k.a. REVOLUTIONARY PEOPLE'S STRUGGLE

a.k.a. JUNE 78

a.k.a. ORGANIZATION OF REVOLUTIONARY INTERNATIONALIST SOLIDARITY

a.k.a. ELA

a.k.a. REVOLUTIONARY CELLS

a.k.a. LIBERATION STRUGGLE

REVOLUTIONARY ORGANIZATION 17 NOVEMBER

a.k.a. 17 NOVEMBER

a.k.a. EPANASTATIKI ORGANOSI 17 NOEMVRI

REVOLUTIONARY PEOPLE'S LIBERATION PARTY/FRONT

a.k.a. DEVRIMCI HALK KURTULUS PARTISI-CEPHESI

a.k.a. DHKP/C;

a.k.a. DEVRIMCI SOL

a.k.a. REVOLUTIONARY LEFT

a.k.a. DEV SOL

a.k.a. DEV SOL SILAHLI DEVRIMCI BIRLIKLERI

a.k.a. DEV SOL SDB

a.k.a. DEV SOL ARMED REVOLUTIONARY UNITS

SHINING PATH

a.k.a. SENDERO LUMINOSO

a.k.a. SL

a.k.a. PARTIDO COMUNISTA DEL PERU EN EL SENDERO LUMINOSO DE JOSE CARLOS MARIATEGUI (COMMUNIST PARTY OF PERU ON THE SHINING PATH OF JOSE CARLOS MARIATEGUI)

a.k.a. PARTIDO COMUNISTA DEL PERU (COMMUNIST PARTY OF PERU)

a.k.a. PCP

a.k.a. SOCORRO POPULAR DEL PERU (PEOPLE'S AID OF PERU)

a.k.a. SPP

a.k.a. EJERCITO GUERRILLERO POPULAR (PEOPLE'S GUERRILLA ARMY)

a.k.a. EGP

a.k.a. EJERCITO POPULAR DE LIBERACION (PEOPLE'S LIBERATION ARMY)

a.k.a. EPL

UNITED SELF-DEFENSE FORCES OF COLOMBIA

a.k.a. AUC

a.k.a. AUTODEFENSAS UNIDAS DE COLOMBIA

Designation by the Secretary of State on December 18, 2001

LASHKAR-E-TAIBA

a.k.a. LASHKAR E-TAYYIBA

a.k.a. LASKAR E-TOIBA

a.k.a. ARMY OF THE RIGHTEOUS

Designations by the Secretary of State on December 31, 2001

CONTINUITY IRA (CIRA)

LOYALIST VOLUNTEER FORCE (LVF)

ORANGE VOLUNTEERS (OV)

RED HAND DEFENDERS (RHD)

ULSTER DEFENCE ASSOCIATION/ULSTER FREEDOM FIGHTERS (UDA/UFF)

FIRST OF OCTOBER ANTIFASCIST RESISTANCE GROUP (GRAPO)

Dated: March 13, 2002.
Francis X. Taylor,
Coordinator for Counterterrorism, Department of State.

[FR Doc. 02-6577 Filed 3-14-02; 3:48 pm]

BILLING CODE 4710-10-P